NATIONAL AERONAUTICS AND SPACE ADMINISTRATION

[Notice 00-119]

NASA Advisory Council, Life and Microgravity Sciences and Applications Advisory Committee Commercial Advisory Subcommittee; Meeting

AGENCY: National Aeronautics and Space Administration.

ACTION: Notice of meeting.

SUMMARY: In accordance with the Federal Advisory Committee Act, Pub. L. 92-463, as amended, the National Aeronautics and Space Administration announces a meeting of the NASA Advisory Council, Life and Microgravity Sciences and Applications Advisory Committee, Commercial Advisory Subcommittee.

DATES: Wednesday, October 18, 2000, 8 a.m. to 5 p.m.

ADDRESSES: National Aeronautics and Space Administration, Room MIC-5, 300 E Street, SW, Washington, DC 20546.

FOR FURTHER INFORMATION CONTACT: Ms. Candace Livingston, Code UM, National Aeronautics and Space Administration, Washington, DC 20546, 202-358-0697.

SUPPLEMENTARY INFORMATION: The meeting will be open to the public to the seating capacity of the room. Advance notice of attendance to the Executive Secretary is requested. The agenda for the meeting will include the following topics:

—Status of subcommittee and LMSAAC meetings

—Status of the NGO proposal for the ISS

—Status of OLMSA Organization (Dr. Nicogossian's successor has not been appointed)

—Report of the Task Team on Product Development Levels

—Selection of Environmental Systems CSTC and Discussion of relationship to CSC's

—Scientific Quality Control for CSC Payloads

—Recommendations and Wrap-Up

It is imperative that the meeting be held on this date to accommodate the scheduling priorities of the key participants. Visitors will be requested to sign a visitor's register.

Dated: September 22, 2000.
Beth M. McCormick,
Advisory Committee Management Officer, National Aeronautics and Space Administration.

[FR Doc. 00-24762 Filed 9-26-00; 8:45 am]

BILLING CODE 7510-01-U